DEPARTMENT OF DEFENSE

GENERAL SERVICES ADMINISTRATION

NATIONAL AERONAUTICS AND SPACE ADMINISTRATION

48 CFR Parts 28, 31, 42, and 52

[FAC 2005-01; Item IX]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: March 9, 2005.

FOR FURTHER INFORMATION CONTACT The FAR Secretariat, Room 4035, GS Building, Washington, DC, 20405, (202) 501-4755, for information pertaining to status or publication schedules. Please cite FAC 2001-05, Technical Amendments.

List of Subjects in 48 CFR Parts 28, 31, 42, and 52

Government procurement.

Dated: February 24, 2005.
Rodney P. Lantier,
Director, Contract Policy Division.

Therefore, DoD, GSA, and NASA amend 48 CFR parts 28, 31, 42, and 52 as set forth below:

1. The authority citation for 48 CFR parts 28, 31, 42, and 52 is revised to read as follows:

Authority: 40 U.S.C. 121(c); 10 U.S.C. chapter 137; and 42 U.S.C. 2473(c).

PART 28—BONDS AND INSURANCE

28.203 [Amended]

2. Amend section 28.203-3 in paragraph (d) by removing “19” each time it appears and adding “20” in its place.

PART 31—CONTRACT COST PRINCIPALS AND PROCEDURES

31.101 [Amended]

3. Amend section 31.101 by removing from the fifth sentence “Assistant Administrator for Procurement” and adding “Deputy Chief Acquisition Officer” in its place.

PART 42—CONTRACT ADMINISTRATION AND AUDIT SERVICES

4. Revise section 42.203 to read as follows:

42.203 Contract administration services directory.

The Defense Contract Management Agency (DCMA) maintains the Federal Directory of Contract Administration Services Components. The directory lists the names and telephone numbers of those DCMA and other agency offices that offer contract administration services within designated geographic areas and at specified contractor plants. Federal agencies may access it on the Internet at http://www.dcma.mil/. For additional information contact—Defense Contract Management Agency, ATTN: DCMA-DSL, 6350 Walker Lane, Alexandria, VA 22310-3226.

PART 52—SOLICITATION PROVISIONS AND CONTRACT CLAUSES

52.225-13 [Amended]

5. Amend section 52.225-13 by removing from paragraph (b) “http://www.epls.gov/TerList1.html” and adding “http://epls.arnet.gov/News.html” in its place.

[FR Doc. 05-4090 Filed 3-8-05; 8:45 am]

BILLING CODE 6820-EP-S